DEPARTMENT OF COMMERCE

National Oceanic and Atmospheric Administration

[I.D. 020501B]

Southwest Region Vessel Monitoring System Requirements

AGENCY: National Oceanic and Atmospheric Administration (NOAA)

ACTION: Proposed information collection; comment request.

SUMMARY: The Department of Commerce, as part of its continuing effort to reduce paperwork and respondent burden, invites the general public and other Federal agencies to comment on proposed and/or continuing information collections, as required by the Paperwork Reduction Act of 1995, Pub. L. 104-13 (44 U.S.C. 3506(c)(2)(A)).

DATES: Written comments must be submitted on or before April 10, 2001.

ADDRESSES: Direct all written comments to Madeleine Clayton, Departmental Forms Clearance Officer, Department of Commerce, Room 6086, 14th and Constitution Avenue NW, Washington DC 20230 (or via Internet at MClayton@doc.gov).

FOR FURTHER INFORMATION CONTACT: Requests for additional technical information on VMS Units and operations, please contact Mr. Bob Harman at NOAA Honolulu Law Enforcement, P.O. Box 50246, Honolulu, HI 96850-7118, (808) 541-3075, bob.harman@noaa.gov. For information on regulations pertaining to VMS Units or copies of the information collection instrument(s) and instructions should be directed to Alvin Katekaru, National Marine Fisheries Service, 1601 Kapiolani Blvd., Suite 1110, Honolulu, HI 96814, (808) 973-2935 ext. 207, alvin.katekaru@noaa.gov.

SUPPLEMENTARY INFORMATION:

I. Abstract

Federal permit holders in the Hawaii longline pelagic fishery are prohibited from fishing unless their vessel has an operational Vessel Monitoring System (VMS)unit. Permit holders in the lobster fishery of the Northwestern Hawaiian Islands that use a VMS are allowed to fish closer to fishing grounds before the regulated opening of the fishery. VMS units automatically transmit periodic location reports, allowing fishery enforcement offices to establish the position of the vessels. These requirements are currently approved under OMB Control #0648-0307, but renewal of OMB clearance is being sought separately from the other requirements that formed 0648-0307.

II. Method of Collection

All VMS position reports are transmitted automatically and electronically.

III. Data

OMB Number: None.

Form Number: None.

Type of Review: Regular submission.

Affected Public: Business and other for-profit organizations.

Estimated Number of Respondents: 165.

Estimated Time Per Response: 4 hours to install a VMS, 2 hours per year to repair and maintain a VMS, and 24 seconds per day to transmit automated positions reports.

Estimated Total Annual Burden Hours: 731.

Estimated Total Annual Cost to Public: None.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 2, 2001.
Madeleine Clayton,
Departmental Forms Clearance Officer, Office of the Chief Information Officer.

[FR Doc. 01-3388 Filed 2-8-01; 8:45 am]

BILLING CODE 3510-22-S